DEPARTMENT OF ENERGY

Federal Energy Regulatory Commission

[Docket No. EL08-14-000]

Black Oak Energy, LLC, EPIC Merchant Energy, LP, SESCO Enterprises, LLC, Complainants v. PJM Interconnection, Inc., Respondent; Notice of Complaint

December 4, 2007.

Take notice that on December 3, 2007, Black Oak Energy, LLC (Black Oak), EPIC Merchant Energy, LP and SESCO Enterprises, LLC (collectively, Financial Marketers), filed a formal complaint against PJM Interconnection, Inc. (PJM) pursuant to section 206 and 306 of the Federal Power Act, 16 U.S.C. 824e and 825e (2000), and Rule 206 of the Commission's Rules of Practice and Procedure, 18 CFR 385.206 (2007), alleging that the PJM Tariff is improperly allocating physical transmission line losses to virtual transactions and also distributing over-collected transmission line losses in a manner that discriminates against virtual Market Participants.

Financial Marketers certify that copies of the complaint were served on the contacts for PJM as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on December 26, 2007.

Kimberly D. Bose,
Secretary.

[FR Doc. E7-24028 Filed 12-11-07; 8:45 am]

BILLING CODE 6717-01-P